DEPARTMENT OF HEALTH AND HUMAN SERVICES

Administration for Children and Families

Proposed Information Collection Activity; Procedural Justice-Informed Alternatives to Contempt Demonstration Project Data Collection (OMB #0970-0505)

AGENCY: Office of Child Support Enforcement; Administration for Children and Families; HHS.

ACTION: Request for public comment.

SUMMARY: The Office of Child Support Enforcement (OCSE), Administration for Children and Families (ACF), U.S. Department of Health and Human Services (HHS), is proposing to collect data as part of the rigorous evaluation of the Procedural Justice-Informed Alternatives to Contempt (PJAC) demonstration.

DATES: Comments due by July 12, 2019. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The Office of Child Support Enforcement (OCSE) within the Administration for Children and Families (ACF) is proposing a data collection activity as part of the Procedural Justice-Informed Alternatives to Contempt (PJAC) Demonstration. In September 2016, OCSE issued grants to five state child support agencies to provide alternative approaches to the contempt process with the goal of increasing noncustodial parents' compliance with child support orders by building trust and confidence in the child support agency and its processes. OCSE also awarded a grant to support a rigorous evaluation of PJAC. The PJAC Demonstration is a five-year project that allows grantees and OCSE to learn whether incorporating principles of procedural justice into child support business practices increases reliable child support payments, reduces arrears, minimizes the need for continued enforcement actions and sanctions, and reduces the use of contempt proceedings.

The PJAC demonstration will yield information about the efficacy of applying procedural justice principles via a set of alternative services to the current use of a civil contempt process to address nonpayment of child support. It will generate knowledge regarding how the PJAC intervention operates, the effects the alternative services have, and whether the benefits of this approach exceed the costs. The information gathered will help inform future policy decisions related to the contempt process within the field of child support enforcement.

PJAC demonstration will include three interconnected evaluation components:

1. Implementation Study. The implementation study will provide a detailed description of the PJAC intervention—how it is implemented, whether it was implemented as intended, participant characteristics, the contexts in which it is operated, how treatment differed from the status quo, and the implications of PJAC practices. The study will identify the intervention features and conditions necessary for effective replication or improvement of the intervention. Key elements of the implementation study include: A Management Information System (MIS) for random assignment and data collection on participant engagement in PJAC activities; semi-structured interviews with staff from child support agencies and selected partner organizations; separate semi-structured interviews with study participants and the custodial parents connected to their child support case to learn about their experiences with and perceptions of the child support program; and a staff questionnaire to gather quantitative information on the implementation of PJAC services and staff experiences.

2. Impact Study. The impact study will provide rigorous estimates of the effectiveness of the PJAC intervention using an experimental research design. Noncustodial parents whose cases are being referred to the contempt process will be randomly assigned to either a program group that is offered PJAC services or to a control group that is offered business-as-usual services. Random assignment will require child support program staff to complete a brief data entry protocol. The impact study will rely on administrative data from state and county child support programs, court records, criminal justice records, and data from the National Directory of New Hires. Administrative records data will be used to estimate impacts on child support payments, enforcement actions, contempt proceedings, and jail stays.

3. Benefit-Cost Study. The benefit-cost study will estimate the costs and benefits associated with the implementation and impact of the PJAC interventions. The study will examine the costs and benefits from the perspective of the government, noncustodial parents, custodial parents, and society. Pertinent benefits and costs will be added together to determine the net value of the program for each perspective. Key outcomes to be assessed include the cost of PJAC interventions, costs for contempt actions, child support payments from noncustodial parents (program and control), court costs, and jail time, among others. The benefit-cost study will rely on the results of the impact study, analysis of participation data from the MIS, and results of a staff time study to quantify various PJAC-related costs and benefits.

This notice is specific to the following data collection activities: The noncustodial parent participant interviews (these interview topic guides were approved under a previous submission and require content modification which also significantly lowers the collective public burden hours); the staff survey; the staff time study; and the custodial parent interviews. Data collection activities that were previously approved by OMB, following public comment, are the staff data entry on participant baseline information, study MIS to track receipt of services, staff and community partner interview topic guide, the participant interview topic guide, and the participant survey tracking letter. A participant survey has been eliminated from the data collections plans, so the OMB-approved participant survey tracking letter will no longer be used.

Respondents: Respondents include study participants, child support program staff at the six PJAC demonstration sites, custodial parents associated with study participants, and the federal Office of Child Support Enforcement.

Annual Burden Estimates
Instrument | Total number of respondents | Total number of responses per respondent | Average burden hours per response | Total burden hours
Noncustodial parent participant interview | 60 | 1 | 1 | 60
Staff Survey | 20 | 1 | .5 | 10
Staff time study | 30 | 1 | 1.5 | 45
Custodial parent interview | 60 | 1 | 1 | 60

Estimated Total Annual Burden Hours: 175

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1315.

Mary B. Jones,
ACF/OPRE Certifying Officer.

[FR Doc. 2019-09756 Filed 5-10-19; 8:45 am]

BILLING CODE 4184-41-P